NATIONAL AERONAUTICS AND SPACE ADMINISTRATION

[Notice: (18-087)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: All comments should be submitted within 60 calendar days from the date of this publication.

ADDRESSES: All comments should be addressed to Gatrie Johnson, National Aeronautics and Space Administration, 300 E Street SW, Washington, DC 20546-0001.

FOR FURTHER INFORMATION CONTACT: Requests for additional information or copies of the information collection instrument(s) and instructions should be directed to Gatrie Johnson, NASA Clearance Officer, NASA Headquarters, 300 E Street SW, JF0000, Washington, DC 20546 or email Gatrie.Johnson@NASA.gov.

SUPPLEMENTARY INFORMATION:

I. Abstract

This is a request for authorization to collect information under the NASA Federal Acquisition Regulation Supplement (NFS) Clause, 1852.223-70, Safety and Health Measures and Mishap Reporting, formerly entitled “Safety and Health.” While the clause is proposed to be revised to eliminate some information collected requirements, two distinct information collection requirements will remain 1) notification of a Type A, B, C, or D Mishap, or a close call as defined in NASA Procedural Requirements (NPR) 8621.1 Mishap and Close Call Reporting, Investigating and Recordkeeping, and 2) quarterly reports specifying lost-time frequency rate, number of lost-time injuries, exposure, and accident/incident dollar losses.

II. Methods of Collection

Electronic.

III. Data

Title: Safety and Health Measures and Mishap Reporting.

OMB Number: 2700-0160.

Type of review: Renewal.

NSF clause 1852.223-70, Safety and health measures and mishap reporting. Under this clause, NASA contractors are to immediately notify the contracting officer when a mishap (Type A, B, C, D or Close Call) occurs. The data the contractors provide to NASA includes incident location, date and time of incident, number of fatalities if known, number of hospitalized employees if known, type of injury if known, type of damage if known, contact person, contact person phone, number, and brief description of the incident.

NASA estimates that the notification of a mishap will take a contractor approximately 4 hours, counting initial notifications, supervisory notifications, and contracting officer notifications. The chart below shows the number of mishaps, by category, reported by NASA contractors for calendar years 2013 and 2014. The Federal Procurement Data System data for fiscal year 2015 shows award of approximately 154 contract actions involved performance on a NASA facility.

Classification | 2013 | 2014
Type A | 0 | 1
Type B | 3 | 1
Type C | 125 | 139
Type D | 166 | 160
Total | 294 | 301

The purpose of tracking mishaps is for oversight of safety measures of current contractors working on Federal facilities and data for future source selections. For purposes of calculating burden, we estimate a given contractor may submit two mishaps notifications in a year and that this will take each notification approximately 4 hours to collect the information needed, review it, and provide it to the contracting officer. Generally, the contractor's supervisory personnel would collect the information. It is likely the firm's safety manager or equivalent position would review the information before submitting it to the contracting officer.

NASA estimates that it will take a contractor approximately 5 hours to prepare and deliver the quarterly report.

A. Annual Information Collection Reporting Burden

1852.223-70—Safety and Health Measures and Mishap Reporting
Reporting requirement | Respondents | Responses per respondent | Total responses | Hours per response | Hours estimated
1. Notification of a Type A, B, C, or D Mishap, or close call | 154 | 2 | 308 | 4 | 1,232
2. Quarterly reports specifying lost-time frequency rate, number of lost-time injuries, exposure, and accident/incident dollar losses | 154 | 4 | 616 | 5 | 3,080
Total |  | 6 | 924 | *5 | 4,312
* This is an average for the total number of hours (4,313) divided by the total number of responses (924) resulting in 4.67 total hours per responses, rounded up to the nearest whole number or 5.

For notifying the contracting officer of a mishap, it is estimated a company supervisor would collect the information, then the company Occupational Health and Safety Specialist would review the information before it is submitted to the Government.

For calculating the quarterly reports, specifying lost-time frequency rate, number of lost-time injuries, exposure, and accident/incident dollar losses, it is estimated to take approximately 5 hours. This includes an Occupational Health and Safety Specialist gathering the records, analyzing the data, and a company official reviewing the data before the report is submitted to the Government.

Labor category | Mishap notification/year: Time (hours) | Mishap notification/year: Hourly rate | Mishap notification/year: Total cost | Quarterly report/year: Time (hours) | Quarterly report/year: Hourly rate | Quarterly report/year: Total cost
Occupational Health and Safety Specialist | 7 | $45.49 | $318.43 | 18 | $45.49 | $818.82
Manager | 1 | 63.03 | 63.03 | 2 | 63.03 | 126.06
Total | 8 |  | 381.46 | 20 |  | 944.88

Generally, two labor categories will be involved in the requirements of this information collection: Occupational Health and Safety Specialist and a company supervisor or manager. The Occupational Health and Safety Specialist is estimated to be equivalent to the mid-point (step 5) of the General Schedule (GS) GS-12 with an hourly rate of $33.39 (from the 2015 OPM GS Salary Table). The manager/supervisor is estimated to be equivalent to the mid-point for a GS-14 at an hourly rate of $46.92. For both labor categories, the overhead/burden rate of 36.25%, based on the OMB-mandated burden rate for A-76 public-private competitions, is added (e.g., GS 12, Step 5 $33.39/hour × 1.3625 = $45.49 burdened hourly rate. For a manager/supervisor at a rate of $46.92, the burdened hourly rate is $63.03.

Estimated Summary of Annual Total Cost to the Public of Information Collection Reporting Burden:

Number of respondents: 154.

Responses per respondent: 6.

Total annual responses: 924.

Average number of hours per response: 4.67.

Total hours: 4,312.

Rate per hour (average): $54.

Total annual cost to public: $232,848.

It is estimated that approximately 154 respondents will provide a total of 308 notifications of Type A, B, C, or D Mishap, or Close Call notifications (approximately 2 notifications per respondent per year). Additionally, each of 154 respondents will submit one quarterly report four times a year. Thus, responses from respondents are estimated to include 2 mishap notifications and 4 quarterly reports for a total of 6 responses annually per respondent. Based on these figures, the combine total number of responses per year for all respondents will be 308 mishap reports and 616 quarterly reports for a total of 924 total responses for all respondents. It is estimated to take a respondent approximately 4 hours to gather the required information and notify the contracting officer of a Type A, B, C, or D Mishap or Close Call. It is estimated to take respondents approximately 5 hours to prepare and submit each quarterly report specifying lost- time frequency rate, number of lost-time injuries, exposure, and accident/incident dollar losses.

B. Estimated Annual Information Collection Reporting Cost to the Government

Clause requirement | Responses | Hours per response | Government hours | $/Hour | Government $
Mishap Notification | 308 | 1 | 308 | $45.49 | $14,011
Quarterly Report Total annual Government cost | 616 | 2 | 1,232 | $45.49 | $56,044
* The Government used a rate equivalent to a GS-12.

Total Estimated Summary of the Annual Cost to the Government for Information Collection Reporting and Recordkeeping Burdens:

Total hours: 1,540.

Total annual Government cost: $70,054.60.

* The Government used a rate equivalent to a GS-12.

Total Estimated Summary of the Annual Cost to the Government for Information Collection Reporting and Recordkeeping Burdens:

Total hours: 1,540.

Total annual Government cost: $70,054.60.

The estimates assume that not all efforts, such as retrieving and retaining records, are attributed solely to this information collection; only those actions resulting from this rule that are not customary to normal business practices are attributed to this estimate.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gatrie Johnson,
NASA PRA Clearance Officer.

[FR Doc. 2018-23783 Filed 10-30-18; 8:45 am]

BILLING CODE 7510-13-P